DEPARTMENT OF TRANSPORTATION

Office of the Secretary

Aviation Proceedings, Agreements Filed the Week Ending September 12, 2003

The following Agreements were filed with the Department of Transportation under the provisions of 49 U.S.C. 412 and 414. Answers may be filed within 21 days after the filing of the application.

Docket Number: OST-2003-16123.

Date Filed: September 9, 2003.

Parties: Members of the International Air Transport Association.

Subject: Mail Vote 322, PTC COMP 1089 dated 9 September 2003, General Increase Resolution 002mm (except within Europe, between USA/US Territories and Austria, Chile, Czech Republic, Finland, France (including French Guiana, French Polynesia, Guadeloupe, Martinique, New Caledonia, Reunion, Saint Pierre and Miquelon), Germany, Iceland, Italy, Korea (Rep. of), Malaysia, Netherlands, New Zealand, Panama, Scandinavia, Switzerland), Intended effective date: 1 October 2003.

Docket Number: OST-2003-16133.

Date Filed: September 9, 2003.

Parties: Members of the International Air Transport Association.

Subject: Mail Vote 323, PTC123 0252 dated 12 September 2003, TC123 North Atlantic Expedited Resolutions (except between USA and Korea (Rep. of), Malaysia) r1-r7, Intended effective date: 15 October 2003.

Docket Number: OST-2003-16134.

Date Filed: September 9, 2003.

Parties: Members of the International Air Transport Association.

Subject: Mail Vote 324, PTC123 0253 dated 12 September 2003, TC123 Mid Atlantic Expedited Resolutions r1-r6, Intended effective date: 15 October 2003.

Docket Number: OST-2003-16135.

Date Filed: September 9, 2003.

Parties: Members of the International Air Transport Association.

Subject: Mail Vote 325, PTC123 0254 dated 12 September 2003, South Atlantic Expedited Resolutions r1-r7, Intended effective date: 15 October 2003.

Docket Number: OST-2003-16168.

Date Filed: September 12, 2003.

Parties: Members of the International Air Transport Association.

Subject: PTC COMP 1090 dated 12 September 2003, Mail Vote 330—Resolution 010y, TC2/12/23/123 Establishing Passenger Fares and Related Charges—Moldova, Intended effective date: 1 November 2003.

Andrea M. Jenkins,
Program Manager, Docket Operations, Federal Register Liaison.

[FR Doc. 03-24579 Filed 9-26-03; 8:45 am]

BILLING CODE 4910-62-P